DEPARTMENT OF JUSTICE

Notice of Lodging of Amendment to Consent Decree Pursuant to the Comprehensive Environmental Response, Compensation, and Liability Act (CERCLA)

In accordance with Departmental policy, 28 CFR § 50.7, notice is hereby given that a proposed Amendment to Consent Decree entered on February 7, 1992 in United States v. Beazer East, Inc., Civil Action No. S-91-767, was lodged with the United States District Court for the Eastern District of California on July 24, 2003.

The Consent Decree involved the settlement of claims brought by the United States pursuant to the Comprehensive Environmental Response, Compensation, and Liability Act. The complaint contained claims seeking injunctive relief and the recovery of response costs incurred by the United States in connection with the release and threatened release of hazardous substances from a facility known as the Koppers Superfund Site in Oroville, California. The proposed and agreed upon Amendment would modify the Consent Decree by updating the Decree to accommodate two changes in the remedy and the implementation of necessary institutional controls.

The Department of Justice will receive, for a period of thirty (30) days from the date of this publication, comments relating to the proposed Amendment to Consent Decree. Comments should be addressed to the Assistant Attorney General, Environment and Natural Resources Division, P.O. Box 7611, U.S. Department of Justice, Washington, DC 20044-7611. Each communication should refer on its face to United States v. Beazer East, Inc., DOJ No. 90-11-3-461A.

The proposed Amendment to Consent Decree may be examined at the Office of the United States Attorney, Eastern District of California, 501 I Street, 10th Floor, Sacramento, California 95814, and at the U.S. Environmental Protection Agency, Region 9 Office, 75 Hawthorne Street, San Francisco, California 94105. During the public comment period, the proposed Amendment may also be examined on the following Department of Justice Web site, http://www.usdoj.gov/enrd/open.html.

A copy of the proposed Amendment to Consent Decree may be obtained by (1) mail from the Consent Decree Library, P.O. Box 7611, U.S. Department of Justice, Washington, DC 20044-7611; or by (2) faxing or emailing the request to Tonia Fleetwood (tonia.fleetwood@usdoj.gov), U.S. Department of Justice, fax number (202) 616-6584; phone confirmation (202) 514-1547. In requesting a copy, please forward the request and a check in the amount of $12.50 (25 cents per page reproduction cost), made payable to the U.S. Treasury.

Ellen M. Mahan,
Assistant Section Chief, Environmental Enforcement Section, Environment and Natural Resources Division.

[FR Doc. 03-20073 Filed 8-6-03; 8:45 am]

BILLING CODE 4410-15-M